FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 22, 2010.

A. Federal Reserve Bank of Richmond (A. Linwood Gill, III, Vice President) 701 East Byrd Street, Richmond, Virginia 23261-4528:

1. Carlyle Financial Services Harbor, L.P., Washington, D.C.; CGFSP Coinvestment, L.P.; Carlyle Global Partner Master Coinvestment Cayman, L.P.; Carlyle Global Financial Services Partners, L.P.; TCG Financial Services, L.P.; Carlyle Financial Services, Ltd.; TC Group Cayman Investment Holdings, L.P.; TCG Holdings Cayman II, L.P.; DBD Cayman, Limited; TCG Financial Services Investment Holdings, L.P.; and Carlyle Financial Services Holdings, Ltd., all of Grand Cayman, Cayman Islands; Daniel A. D' Aniello; William E. Conway, Jr.; and David M. Rubenstein, all of Washington, D.C.; and Carlyle Investment Management, L.L.C.; TC Group, L.L.C.; and TCG Holdings, L.L.C., all of Wilmington, Delaware; to acquire voting shares of Hampton Roads Bankshares, Inc., Norfolk, Virginia, and thereby indirectly acquire voting shares of Shore Bank, Onley, Virginia.

Board of Governors of the Federal Reserve System, June 2, 2010.
Robert deV. Frierson,
Deputy Secretary of the Board.

[FR Doc. 2010-13541 Filed 6-4-10; 8:45 am]

BILLING CODE 6210-01-S